DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Mackerel, Squid and Butterfish Amendment 14 Data Collection.

OMB Control Number: 0648-0679.

Form Number(s): None.

Type of Request: Regular (extension of a currently approved information collection).

Number of Respondents: 426.

Average Hours Per Response: Vessel trip reports, 5 minutes; VMS activity declarations, 5 minutes; released catch affidavit form, 5 minutes observer pre-trip notification of trip, 5 minutes; trip cancellation, 1 minute.

Burden Hours: 3,385.

Needs and Uses: This request is for extension of a current information collection. Under the Magnuson-Stevens Fishery Conservation and Management Act, the Secretary of Commerce has the responsibility for the conservation and management of marine fishery resources. Much of this responsibility has been delegated to NOAA's National Marine Fisheries Service (NMFS). Under this stewardship role, the Secretary was given certain regulatory authorities to ensure the most beneficial uses of these resources. One of the regulatory steps taken to carry out the conservation and management objectives is to collect information from users of the resources.

This collection requires vessel trip reports (VTRs) to be submitted weekly for all mackerel, squid, and butterfish permit holders. In addition, all limited access mackerel and longfin squid/butterfish moratorium permit holders must maintain a VMS unit on their vessels and declare intent to target Atlantic mackerel or longfin squid and submit daily catch reports via VMS. They must also submit daily catch reports via VMS. Vessels that land over 20,000 lb of mackerel must notify NMFS Office of Law Enforcement (OLE) via VMS of the time and place of offloading at least 6 hours prior to crossing the VMS demarcation line on their return trip to port, or if the vessel does not fish seaward of the VMS demarcation line, at least 6 hours prior to landing.

This collection also requires limited access mackerel and longfin squid/butterfish moratorium permit holders to bring all catch aboard the vessel and make it available for sampling by an observer. If catch is not made available to an observer before discard, that catch is defined as slippage, and the vessel operator must complete a “Released Catch Affidavit” form within 48 hours of the end of the fishing trip which details why catch was slipped, estimates the quantity and species composition of the slipped catch, and records the time and location of the slipped catch.

Finally, this collection requires any vessel with a limited access mackerel permit intending to land over 20,000 lbs of mackerel to contact NMFS at least 48 hours in advance of a fishing trip to request an observer. Vessels currently contact NMFS via phone, and selection notices or waivers are issued by NMFS via VMS. If service providers are unable to provide coverage, an owner, operator, or vessel manager may request a waiver by calling the Northeast Fisheries Observer Program.

Affected Public: Business or other for-profit organizations.

Frequency: Weekly, daily and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 27, 2017.
Sarah Brabson,
NOAA PRA Clearance Officer.

[FR Doc. 2017-02162 Filed 2-1-17; 8:45 am]

BILLING CODE 3510-22-P